ENVIRONMENTAL PROTECTION AGENCY

[FRL-9922-97-OSWER]

The Hazardous Waste Electronic Manifest System Advisory Board: Request for Nominations

AGENCY: Environmental Protection Agency (EPA).

ACTION: Request for nominations.

SUMMARY: The U.S. Environmental Protection Agency (EPA) invites nominations of qualified candidates to be considered for a three-year appointment to the Hazardous Waste Electronic Manifest System Advisory Board (the Board). Pursuant to the Hazardous Waste Electronic Manifest Establishment Act (e-Manifest Act), the EPA is establishing the nine member Advisory Board to provide practical and independent advice, consultation, and recommendations to the EPA Administrator on the activities, functions, policies and regulations associated with the Hazardous Waste Electronic Manifest (e-Manifest) System. The EPA Administrator or designee will serve as chair of the Board. This notice solicits nominations to fill the remaining eight positions of the Board, which will be active upon establishment. The Board is considered established once a Board Charter is filed with Congress, which is anticipated no later than October 5, 2015.

To maintain the representation required by statute, nominees will be selected to represent: state agencies overseeing the intrastate and/or interstate cradle-to-grave tracking of hazardous waste from the original generation to its ultimate disposal (three positions); stakeholders from the hazardous waste management and transportation sectors who are affected by state and federal hazardous waste manifest programs (three positions); and the information technology sector (two positions).

DATES: Nominations should be received on or before March 20, 2015.

ADDRESSES: Nominations should be submitted via email to eManifest@epa.gov, and identified with “BOARD NOMINATION” in the subject line of the email.

FOR FURTHER INFORMATION CONTACT: Anthony Raia, U.S. Environmental Protection Agency, Office of Resource Conservation and Recovery, (MC: 5303P), 1200 Pennsylvania Avenue NW., Washington, DC, 20460, Phone: 703-308-8577; or by email: raia.anthony@epa.gov.

SUPPLEMENTARY INFORMATION: The e-Manifest Act was signed into law on October 5, 2012 (http://www.gpo.gov/fdsys/pkg/BILLS-112s710enr/pdf/BILLS-112s710enr.pdf). Under the terms of the e-Manifest Act, the EPA is required to establish a national electronic Information Technology (IT) manifest system. This system is to enable users of the uniform hazardous waste manifest forms (EPA Form 8700-22 and Continuation Sheet 8700-22A) to have the option to more efficiently track their hazardous waste shipments electronically, in lieu of the paper manifest, from the point of generation, during transportation, and to the point of receipt by an off-site facility that is permitted to treat, store, recycle, or dispose of the hazardous waste. Electronic manifests obtained from the national system will augment or replace the paper forms that are currently used for this purpose, and which result in substantial paperwork costs and other inefficiencies. Congress intended that the EPA develop a system that, among other things, meets the needs of the user community and decreases the administrative burden associated with the current paper-based manifest system on the user community. The agency anticipates that utilizing electronic manifests will reduce burden by reporting facilities by 300,000 to 700,000 hours annually, and will save approximately $75 million dollars. To ensure that these goals are met, the Act directs the EPA to establish the Hazardous Waste Electronic Manifest System Advisory Board (the Board) by October 5, 2015 to assess the effectiveness of the electronic manifest system and make recommendations to the EPA Administrator for improving the system.

In addition, the e-Manifest Act directs the EPA to develop a system that attracts sufficient user participation and service revenues to ensure the viability of the system. As a result, the Act provides the EPA broad discretion to establish reasonable user fees, as the Administrator determines are necessary, to pay costs incurred in developing, operating, maintaining, and upgrading the system, including any costs incurred in collecting and processing data from any paper manifest submitted to the system after the date on which the system enters operation. The Board will also meet to assess the adequacy and reasonableness of the service fees and, if necessary, make recommendations to the EPA Administrator to adjust the fees accordingly.

Prior to system deployment the Board will be asked to provide recommendations on important system development matters, as well as on user fee regulatory proposals under consideration. Substantial system development planning work is under completion and the agency is currently conducting additional system development procurement activities. Upon completion of those activities the agency will launch into extensive system design, development, and testing, and anticipates the initial system deployment to occur no later than spring 2018.

The system will provide the functionality of the current paper manifest process, in a more efficient, electronic workflow, and will meet all requirements specified in the e-Manifest Act and e-Manifest Final Rule, which was published on February 7, 2014 (http://www.epa.gov/osw/laws-regs/state/revision/frs/fr231.pdf). The initial system is envisioned to be a national, electronic system (internet-based) that will enable current users of the manifest form to sign, transmit, archive, and retrieve manifests electronically. The e-Manifest system is further envisioned to allow a fully electronic mobile workflow. The mobile workflow will provide both on-line and off-line capabilities which could enable users to complete an electronic manifest even when internet access is unavailable. The EPA envisions that the system will provide all data processing (paper and electronic formats), data storage, and data reporting back out to industry and state users, as well as appropriate public accessibility of data. Finally, e-Manifest aligns with the agency's E-Enterprise business strategy. E-Enterprise for the Environment is a transformative 21st century strategy—jointly governed by states and EPA—for modernizing government agencies' delivery of environmental protection. Under this strategy, the agency will streamline its business processes and systems to reduce reporting burden on states and regulated facilities, and improve the effectiveness and efficiency of regulatory programs for the EPA, states and tribes.

Although the system has not been completed, the Board is established in accordance with the provisions of the Hazardous Waste Electronic Manifest Establishment Act, 42 U.S.C. 6939(g), and the Federal Advisory Committee Act (FACA), 5 U.S.C. App.2. The Board is in the public interest and supports the EPA in performing its duties and responsibilities. Pursuant to the e-Manifest Act, the Board will be comprised of nine members, of which one (1) member is the Administrator (or a designee), who will serve as Chairperson of the Board, and eight (8) members will be individuals appointed by the EPA Administrator:

—At least two (2) of whom have expertise in information technology; (IT);

—At least three (3) of whom have experience in using, or represent users of, the manifest system to track the transportation of hazardous waste under federal and state manifest programs; and

—At least three (3) state representatives responsible for processing those manifests.

The Board will meet at least annually as required by the e-Manifest Act. However, additional meetings by teleconference may occur approximately once every six (6) months or as needed and approved by the Designated Federal Officer (DFO).

Member Nominations: Pursuant to the e-Manifest Act, the Board will assist the agency in evaluating the effectiveness of the e-Manifest IT system and associated user fees; identifying key issues associated with the system, including the need (and timing) for user fee adjustments; system enhancements; and providing independent advice on matters and policies related to the e-Manifest program. The e-Manifest Board will provide recommendations on matters related to the operational activities, functions, policies, and regulations of the EPA under the e-Manifest Act, including proposing actions to encourage the use of the electronic (paperless) system, and actions related to the E-Enterprise strategy that intersect with e-Manifest. These intersections may include issues such as business to business communications, performance standards for mobile devices, and Cross Media Electronic Reporting Rule (CROMERR) compliant e-signatures.

Any interested person and/or organization may nominate qualified individuals for membership. The EPA values and welcomes diversity. In an effort to obtain nominations of diverse candidates, the agency encourages nominations of women and men of all racial and ethnic groups. All nominations will be considered. However, applicants need to be aware of the specific representation required by the e-Manifest Act.

Further, state and industry nominees should have a comprehensive knowledge of hazardous waste generation, transportation, treatment, storage, and disposal under RCRA Subtitle C at the federal, state, and local levels. Nominees who represent the states, should have comprehensive knowledge of state programs that currently collect manifests from generators and treatment, storage, and disposal facilities (TSDFs), and track manifest data in state tracking systems/databases. Nominees who represent industry should have strong knowledge of existing industry systems/devices/approaches and business operations in order to provide valuable input on e-Manifest integration into current industry data systems. IT nominees should have core competencies and experience in large scale systems and application development and integration, deployment and maintenance, user help desk and support, and expertise relevant to support the complexity of an e-Manifest system. Examples of this expertise may include but are not limited to: Expertise with web-based and mobile technologies, particularly that support large scale operations for geographically diverse users; expertise in IT security, including perspective on federal IT security requirements; expertise in electronic signature and user management approaches; expertise with scalable hosting solutions such as cloud-based hosting; and expertise in user experience. Existing knowledge of, or willingness to gain an understanding of EPA shared services and enterprise architecture is a plus. Another plus for any nominee is experience in setting and/or managing fee based systems in general. Additional criteria used to evaluate nominees will include:

• Excellent interpersonal, oral and written communication skills;

• Demonstrated experience developing group recommendations;

• Willingness to commit time to the Board and demonstrated ability to work constructively on committees;

• Absence of financial conflicts of interest;

• Impartiality (including the appearance of impartiality); and

• Background and experiences that would help members contribute to the diversity of perspectives on the Board, e.g., geographic, economic, social, cultural, educational backgrounds, professional affiliations and other considerations.

Nominations must include a resume, which provides the nominee's background, experience and educational qualifications, as well as a brief statement (one page or less) describing the nominee's interest in serving on the Board and addressing the other criteria previously described. Nominees are encouraged to provide any additional information that they feel would be useful for consideration, such as: Availability to participate as a member of the Board; how the nominee's background, skills and experience would contribute to the diversity of the Board; and any concerns the nominee has regarding membership. Nominees should be identified by name, occupation, position, current business address, email, and telephone number. Interested candidates may self-nominate. The agency will acknowledge receipt of nominations.

Persons selected for membership will receive compensation for travel and a nominal daily compensation (if appropriate) while attending meetings. Additionally, selected candidates will be designated as Special Government Employees (SGEs) or consultants. Candidates designated as SGEs will be required to fill out the “Confidential Financial Disclosure Form for Environmental Protection Agency Special Government Employees” (EPA Form 3310-48). This confidential form provides information to the EPA ethics officials to determine whether there is a conflict between the SGE's public duties and their private interests, including an appearance of a loss of impartiality as defined by federal laws and regulations. One example of a potential conflict of interest may be for IT professional(s) serving in an organization which is awarded any related e-Manifest system development contract(s).

Dated: February 6, 2015.
Barnes Johnson,
Director, Office of Resource Conservation and Recovery, Office of Solid Waste and Emergency Response.

[FR Doc. 2015-03300 Filed 2-17-15; 8:45 am]

BILLING CODE 6560-50-P